FEDERAL COMMUNICATIONS COMMISSION

[DA 16-1322]

Order Declares IP To Go, LLC Section 214 Authorization Terminated

AGENCY: Federal Communications Commission.

ACTION: Notice.

SUMMARY: In this document, the International Bureau of the Federal Communications Commission (Commission) declares the international section 214 authorization granted to IP To Go, LLC (IPTG) terminated given IPTG's inability to comply with an express condition for holding the authorization. It also concludes that IPTG failed to comply with those requirements of the Communications Act of 1934, as amended (the Act) and the Commission's rules that ensure that the Commission can contact and communicate with the authorization holder and verify IPTG is still providing service, which failures have prevented any way of addressing IPTG's inability to comply with the condition of its authorization.

FOR FURTHER INFORMATION CONTACT: Veronica Garcia-Ulloa, Telecommunications and Analysis Division, International Bureau at (202) 418-0481 or Veronica.Garcia-Ulloa@fcc.gov.

SUPPLEMENTARY INFORMATION: This is a summary of the Commission's Order, DA 16-1322, adopted and released November 30, 2016. The full text of this document can be located at http://transition.fcc.gov/Daily_Releases/Daily_Business/2016/db1130/DA-16-1322A1.pdf.

Background

Section 214(a) of the Act prohibits any carrier from constructing, extending, acquiring, or operating any line, and from engaging in transmission through any such line, without first obtaining a certificate of authorization from the Commission. Under section 214(c) of the Act, the Commission “may attach to the issuance of the certificate such terms and conditions as in its judgment the public convenience and necessity may require.” On December 19, 2011, the International Bureau granted IPTG an international section 214 authorization to provide international global or limited global facilities-based authority, and global or limited global resale authority, in accordance with section 63.18(e)(1) and 63.18(e)(2) of the Commission's rules. The International Bureau granted the application on the express condition that IPTG abide by the commitments and undertakings contained in its December 5, 2011 letter of assurance (LOA) to the U.S. Department of Justice (DOJ). The LOA outlines a number of commitments made by IPTG to address national security, law enforcement, and public safety concerns.

On April 11, 2016, DOJ notified the Commission of IPTG's non-compliance with the conditions of its authorization and requested that the Commission terminate, declare null and void and no longer in effect, and/or revoke the international section 214 authorization issued to IPTG. DOJ believes that IPTG “is neither providing services pursuant to authorization file number ITC-214-20090508-00208 nor still in existence.” DOJ stated that it has been unable to contact IPTG using the telephone numbers listed in its application or through open source research since January 2016. Additionally, DOJ indicates that it contacted IPTG via the email addresses provided in IPTG's application several times since January 2016, with no response. DOJ states that IPTG listed a telephone number on its application as belonging to Alonzo Bevene from the Regulatory Back Office, Inc., but that number belongs to Maldonado Law Group. DOJ stated that in February 2016, DOJ called and Mr. Maldonado answered this number advising DOJ “that the firm is no longer on retainer with IPTG and has no forwarding information for the company.” Finally, DOJ stated that the Florida Department of State Division of Corporations lists IPTG as an active company as of May 22, 2007 with a mailing address for Hitstay, a travel company, also owned by IPTG business owner, Ricardo Mandini, but no telephone number was found for Hitstay.

The Commission has made significant efforts to communicate with IPTG, but has also been unable to do so. On July 5, 2016, the International Bureau sent IPTG a letter to the last addresses of record requesting that IPTG respond to the April 11, 2016 Executive Branch Letter by August 3, 2016. IPTG did not respond. Since that time, the International Bureau has provided IPTG with additional opportunities to respond to these allegations. The International Bureau stated that failure to respond would result in termination of IPTG's international section 214 authorization for failure to comply with the condition of its authorization. In IPTG's application, IPTG stated it was incorporated in Florida, and according to the Florida Department of State Division of Corporations, on October 14, 2016, IPTG filed a voluntary dissolution letter and is now listed as “inactive.” To date, IPTG has not responded to any of the International Bureau or DOJ's multiple requests to resolve this matter.

Discussion

We determine that IPTG's international section 214 authorization to provide services issued under File No. ITC-214-20090508-00208 has terminated for inability to comply with an express condition for holding the international section 214 authorization. The International Bureau provided IPTG with notice and opportunity to respond to the allegations in the April 11, 2016 Executive Branch Letter concerning IPTG's non-compliance with the condition of the grant. IPTG has not responded to any of our multiple requests or requests from DOJ. We find that IPTG's failure to respond to our multiple requests demonstrates that it is unable to satisfy the LOA commitments, upon which the Executive Branch Agencies relied in providing their non-objection to the grant of the authorization to IPTG, and compliance with which is a condition of the grant of its international section 214 authorization.

Furthermore, after having received an international section 214 authorization, a carrier “is responsible for the continuing accuracy of the certifications made in its application” and must promptly correct information no longer accurate, “and in any event, within thirty (30) days.” IPTG has failed to inform the Commission of any changes in its business status of providing international telecommunications services, as required by the rules. Finally, as part of its authorization, IPTG “must file annual international telecommunications traffic and revenue as required by section 43.62.” Section 43.62(b) states that “[n]ot later than July 31 of each year, each person or entity that holds an authorization pursuant to section 214 to provide international telecommunications service shall report whether it provided international telecommunications services during the preceding calendar year.” Our records indicate that IPTG failed to file annual international telecommunications traffic and revenue reports indicating whether or not IPTG provided services in 2014 and 2015, as required by section 43.62(b) of the Commission's rules. IPTG's failure to adhere to the Commission's rules designed to ensure its ability to communicate with the holder of the authorization and to verify if the holder is still providing service also warrants termination, wholly apart from IPTG's non-compliance with the condition of its international section 214 authorization.

Ordering Clauses

Accordingly, it is ordered, pursuant to sections 4(i), 214, and 413 of the Communications Act of 1934, as amended, 47 U.S.C. 154(i), 214, 413, and sections 1.47(h), 43.62, 63.18, 63.21, 63.22(h), 63.23(e), and 64.1195 of the Commission's rules, 47 CFR 1.47(h), 43.62, 63.18, 63.21, 63.22(h), 63.23(e), 64.1195, that the international 214 authorization issued under File No. ITC-214-20090508-00208 is hereby terminated and declared null and void.

It is further ordered that the request of the U.S. Department of Justice, is hereby granted, to the extent set forth in this Order.

It is further ordered that a copy of this Order shall be sent registered mail, return receipt requested to IP To Go, LLC at its last known addresses. In addition, this Order shall be posted in the Commission's Office of the Secretary.

It is further ordered that a copy of this Order, or a summary thereof, shall be published in the Federal Register.

This Order is issued on delegated authority under 47 CFR 0.51, 0.261, and is effective upon release. Petitions for reconsideration under section 1.106 of the Commission's rules, 47 CFR 1.106, or applications for review under section 1.115 of the Commission's rules, 47 CFR 1.115, may be filed within 30 days of the date of the release of this Order.

Federal Communications Commission.
Denise Coca,
Chief, Telecommunications and Analysis Division, International Bureau.

[FR Doc. 2016-30428 Filed 12-16-16; 8:45 am]

BILLING CODE 6712-01-P